DEPARTMENT OF COMMERCE

Foreign-Trade Zones Board

[T-4-2008]

Foreign-Trade Zone 267—Fargo, ND, Temporary/Interim Manufacturing Authority, CNH America, LLC (Construction Equipment); Notice of Approval

On September 30, 2008, the Executive Secretary of the Foreign-Trade Zones (FTZ) Board filed an application submitted by the Fargo Municipal Airport Authority, grantee of FTZ 267, requesting temporary/interim manufacturing (T/IM) authority, on behalf of CNH America, LLC, to manufacture wheel loaders under FTZ procedures within FTZ 267—Site 2, in Fargo, North Dakota.

The application was processed in accordance with T/IM procedures, as authorized by FTZ Board Orders 1347 (69 FR 52857, 8/30/04) and 1480 (71 FR 55422, 9/22/06), including notice in the Federal Register inviting public comment (73 FR 60237, 10/10/08). The FTZ staff examiner reviewed the application and determined that it meets the criteria for approval under T/IM procedures. Pursuant to the authority delegated to the FTZ Board Executive Secretary in the above-referenced Board Orders, the application is approved, effective this date, until December 4, 2010, subject to the FTZ Act and the Board's regulations, including Section 400.28.

Dated: December 4, 2008.
Andrew McGilvray,
Executive Secretary.

[FR Doc. E8-29373 Filed 12-10-08; 8:45 am]

BILLING CODE 3510-DS-P